POSTAL REGULATORY COMMISSION

Sunshine Act Meetings

TIME AND DATE: Wednesday, June 1, 2011, at 11 a.m.

PLACE: Commission hearing room, 901 New York Avenue, NW., Suite 200, Washington, DC 20268-0001.

STATUS: Part of this meeting will be open to the public. The rest of the meeting will be closed to the public. The open part of the meeting will be audiocast. The audiocast can be accessed via the Commission's Web site at http://www.prc.gov.

MATTERS TO BE CONSIDERED: The agenda for the Commission's June 2011 meeting includes the items identified below.

Portions Open to the Public

1. Report on completion of Docket No. C2009-1, Complaint of GameFly.

2. Report on submission of comments to the Postal Service on proposed post office closing regulations.

3. Report on status of dockets pending before the Commission.

4. Report on recent activities of the Joint Periodicals Task Force and status of the report to the Congress pursuant to section 708 of the PAEA.

5. Report on status of legislative review pursuant to section 701 of the PAEA and review of postal-related Congressional activity.

6. Report on Commission handling of rate and service inquiries.

7. Report on international activities.

8. Report on Commission progress toward fulfilling the obligation to establish electronic Official Personnel Files (eOPFs).

Portions Closed to the Public

9. Discussion of pending litigation.

10. Discussion of contractual matters involving sensitive business information—lease issues.

11. Discussion of information technology security implementation—docket system redesign and continuity of operations site.

12. Discussion of confidential personnel matters—performance management.

CONTACT PERSON FOR MORE INFORMATION: Stephen L. Sharfman, General Counsel, Postal Regulatory Commission, 901 New York Avenue, NW., Suite 200, Washington, DC 20268-0001, at 202-789-6820 (for agenda-related inquiries) and Shoshana M. Grove, Secretary of the Commission, at 202-789-6800 or shoshana.grove@prc.gov (for inquiries related to meeting location, access for handicapped or disabled persons, the audiocast, or similar matters).

Dated: May 20, 2011.
By the Commission.
Ruth Ann Abrams,
Acting Secretary.

[FR Doc. 2011-12933 Filed 5-20-11; 4:15 pm]

BILLING CODE 7710-FW-P